DEPARTMENT OF ENERGY

Federal Energy Regulatory Commission

[Project No. 10934-035]

Sugar River Hydro II, LLC; Notice of Intent To Prepare an Environmental Assessment

On June 22, 2023, and supplemented on January 24, 2024, and June 20, 2025, Sugar River Hydro II, LLC, licensee, filed an application for surrender of its license for the Sugar River II Hydroelectric Project No. 10934. The project is located on the Sugar River in Sullivan County, New Hampshire. The project does not occupy federal lands.

To surrender the project, the licensee proposes to disconnect all generator leads, remove all transformers and other project electrical equipment, remove all hydraulic and governor fluids and reservoirs, remove project related operating equipment and monitors, such as impoundment sensors, from the dam, and secure the powerhouse. Additionally, the licensee plans to close the penstock at its intake, and intends to work with the U.S. Fish and Wildlife Service and the New Hampshire Department of Environmental Services Dam Bureau to develop the formal penstock closure plan. The dam and its gates would remain in place, including the emergency backup system with a dedicated generator. The licensee does not anticipate any new ground disturbance activity while securing the powerhouse, and closing the penstock intake.

On July 2, 2025, the Commission issued a public notice for the surrender application. The public comment period closed on August 1, 2025. On July 31, 2025, the Connecticut River Conservancy filed comments to express their support for the surrender of the license.

This notice identifies Commission staff's intention to prepare an environmental assessment (EA) under the National Environmental Policy Act (42 U.S.C. 4321 et seq) for the project.¹ Commission staff plans to issue an EA by March 2, 2026. Revisions to the schedule may be made as appropriate. The EA will be issued for a 30-day comment period. All comments filed on the EA will be reviewed by staff and considered in the Commission's final decision on the proceeding.

¹ The unique identification number for documents relating to this environmental review is EAXX-019-20-000-1756114888.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Aneela Mousam, (202) 502-8357 or aneela.mousam@ferc.gov.

Dated: August 25, 2025.
Debbie-Anne A. Reese,
Secretary.

[FR Doc. 2025-16565 Filed 8-27-25; 8:45 am]

BILLING CODE 6717-01-P